DEPARTMENT OF HEALTH AND HUMAN SERVICES

National Institutes of Health

National Institute of Environmental Health Sciences; Cancellation of Meeting

Notice is hereby given of the cancellation of the Interagency Breast Cancer and Environmental Research Coordinating Committee, October 12, 2011, 1 p.m. to 3 p.m., NIEHS/National Institutes of Health, Building 4401, East Campus, 79 T.W. Alexander Drive, Research Triangle Park, NC 27709 which was published in the Federal Register on August 12, 2011, 76 FR 50234.

Dated: September 30, 2011.
Jennifer S. Spaeth,
Director, Office of Federal Advisory Committee Policy.

[FR Doc. 2011-26000 Filed 10-6-11; 8:45 am]

BILLING CODE 4140-01-P